DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: The Minerals Management Service (MMS), in accordance with Federal Regulations (40 CFR section 1501.4 and section 1506.6) that implement the National Environmental Policy Act (NEPA), announces the availability of NEPA-related Site-Specific Environmental Assessments (SEA's) and Findings of No Significant Impact (FONSI's), prepared by the MMS for the following oil and gas activities proposed on the Gulf of Mexico OCS. This listing includes all proposals for which the FONSI's were prepared by the Gulf of Mexico OCS Region in the period subsequent to publication of the preceding notice.

Activity/operator | Location | Date
Amoco Pipeline Company, Pipeline Activity, SEA No. P-12255 (G-21277) | Viosca Knoll, Block 823, Lease OCS-G 21277, 55 to 80 miles offshore Pascagoula, Mississippi | 09/20/00
CXY Energy Offshore, Inc., Exploration Activity, SEA No. N-6849 | Viosca Knoll Area, Block 565, Lease OCS-21154, 53 miles south of Baldwin County, Alabama | 09/01/00
Chevron U.S.A., Development Activity, SEA No. R-3490 | Viosca Knoll Area, Blocks 251, 252, and 208; Leases OCS-G 10930, 13982, and 13981, 30 miles south of Mobile County, Alabama | 10/05/00
Murphy Exploration and Production Company, Exploration Activity, SEA No. R-3470 | South Timbalier Area, Block 86, Lease OCS-G 0605, 25 miles from the nearest coastline | 8/09/00
Chevron U.S.A., Development Activity, SEA No. R-3454 | Destin Dome Area, Blocks 1 and 2, Leases OCS-G 6397 and 6398, 18 miles south of Baldwin County, Alabama | 10/12/00
Murphy Exploration and Production Company, Exploration Activity, SEA No. S-5236 | South Timbalier Area, Block 86, Lease OCS-G 0605, 25 miles from the nearest shoreline | 07/10/00
Newfield Exploration Company, Structure Removal Activity, SEA No. ES/SR 00-102 | East Cameron Area, Block 45, Lease OCS-G 3287, 20 miles south/southeast of Grand Chenier, Louisiana | 07/10/00
Murphy Exploration and Production Company, Structure Removal Activity, SEA No. ES/SR 00-103 | Ship Shoal Area, Block 134, Lease OCS-G 5201, 39 miles southwest of Cocodrie, Louisiana | 07/28/00
Murphy Exploration and Production Company, Structure Removal Activity, SEA No. ES/SR 00-104 | Ship Shoal Area, Block 135, Lease OCS-G 3164, 60 miles southwest of Cocodrie, Louisiana | 07/28/00
ATP Oil and Gas Corporation, Structure Removal Activity, SEA No. ES/SR 00-105 | West Cameron Area, Block 425, Lease OCS-G 11796, 74 miles south of Cameron Parish, Louisiana | 07/27/00
Shell Offshore, Inc., Structure Removal Activity, SEA Nos. ES/SR 00-106 through 00-111 | High Island Area, Blocks 135, 160, and 119; Leases OCS-G 0741, 0743, and 14882; 25 to 26 miles south of Jefferson County, Texas | 08/03/00
Shell Offshore, Inc., Structure Removal Activity, SEA Nos. ES/SR 00-112 and 00-113 | High Island Area, Blocks 136 and 161, Leases OCS-G 0742 and 0744, 24 to 26 miles from the Texas coastline | 08/01/00
Basin Exploration, Inc., Structure Removal Activity, SEA No. ES/SR 00-114 | West Cameron Area, Block 45, Lease OCS-G 0300, 6 miles south of Cameron Parish, Louisiana | 08/04/00
Chevron U.S.A., Structure Removal Activity, SEA No. ES/SR 00-115 | South Timbalier Area, Block 52, Lease OCS-G 1241, 14 miles south of Terrebonne Parish, Louisiana | 08/11/00
Kerr-McGee Oil and Gas Corporation, Structure Removal Activity, SEA Nos. ES/SR 00-116 through 00-118 | Ship Shoal Area, Block 28, Lease OCS-G 0346, 8 miles south of Terrebonne Parish, Louisiana | 08/21/00
Chevron U.S.A., Structure Removal Activity, SEA No. ES/SR 00-119 | South Marsh Island Area, Block 60, OCS-G 3145, 55 miles south of Iberia Parish, Louisiana | 08/29/00
Chevron U.S.A., Structure Removal Activity, SEA No. ES/SR 00-120 | Viosca Knoll Area, Block 70, Lease OCS-G 16532, 22 miles south of Jackson County Mississippi | 09/06/00
El Paso Production, Structure Removal Activity, SEA No. ES/SR 00-121 | East Cameron Area, Block 280,Lease OCS-G 13590, 84 miles south of Cameron Parish, Louisiana | 09/07/00
AGIP Petroleum Co. Inc., Structure Removal Activity, ES/SR 00-122 | South Marsh Island Area, Block 250, Lease OCS-G 12901, 15 miles south of Iberia Parish, Louisiana | 09/19/00
Ocean Energy, Inc., Structure Removal Activity, SEA No. ES/SR 00-123 | Mustang Island Area, Block 831, Lease OCS-G 3043, 29 miles east of Kleberg County, Texas | 10/04/00

Persons interested in reviewing environmental documents for the proposals listed above or obtaining information about EA's and FONSI's prepared for activities on the Gulf of Mexico OCS are encouraged to contact the MMS office in the Gulf of Mexico OCS Region.

FOR FURTHER INFORMATION: Public Information Unit, Information Services Section, Gulf of Mexico OCS Region, Minerals Management Service, 1201 Elmwood Park Boulevard, New Orleans, Louisiana 70123-2394, telephone (504) 736-2519.

SUPPLEMENTARY INFORMATION: The MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA section 102(2)(C). A FONSI is prepared in those instances where the MMS finds that approval will not result in significant effects on the quality of the human environment. The FONSI briefly presents the basis for that finding and includes a summary or copy of the EA.

This notice constitutes the public notice of availability of environmental documents required under the NEPA Regulations.

Dated: November 1, 2000.
Chris C. Oynes,
Regional Director, Gulf of Mexico OCS Region.

[FR Doc. 00-28477 Filed 11-6-00; 8:45 am]

BILLING CODE 4310-MR-P